DEPARTMENT OF LABOR

Employment and Training Administration

Announcement Regarding a Change in Eligibility for Unemployment Insurance (UI) Claimants in Alabama, Alaska, Delaware, Illinois, Louisiana, Michigan, Mississippi, Ohio, the Virgin Islands and Wisconsin in the Emergency Unemployment Compensation 2008 (EUC08) Program, and the Federal-State Extended Benefits (EB) Program

AGENCY: Employment and Training Administration, Labor.

ACTION: Notice.

SUMMARY: Announcement regarding a change in eligibility for Unemployment Insurance (UI) claimants in Alabama, Alaska, Delaware, Illinois, Louisiana, Michigan, Mississippi, Ohio, the Virgin Islands and Wisconsin in the Emergency Unemployment Compensation (EUC08) program, and the Federal-State Extended Benefits (EB) program.

The U.S. Department of Labor (Department) produces trigger notices indicating which states qualify for both EB and EUC08 benefits, and provides the beginning and ending dates of payable periods for each qualifying state. The trigger notices covering state eligibility for these programs can be found at: http://ows.doleta.gov/unemploy/claims_arch.asp.

The following changes have occurred since the publication of the last notice regarding states EUC08 and EB trigger status:

• Alabama's trigger value had fallen below the 7.0% threshold and has triggered “off” Tier 3 of EUC08.

Based on data released by the Bureau of Labor Statistics on March 18, 2013, the three month average, seasonally adjusted total unemployment rate (TUR) in Alabama was 6.9%, falling below the 7.0% trigger threshold necessary to remain “on” Tier 3 of EUC08. The week ending April 13, 2013, was the last week in which EUC08 claimants in Alabama could exhaust Tier 2 and establish Tier 3 eligibility. Under the phase-out provisions, claimants could receive any remaining entitlement they had for Tier 3 after April 13, 2013.

• Alaska's insured unemployment rate (IUR) has fallen below the 6.0% trigger threshold and has triggered “off” of EB.

Based on data from Alaska for the week ending April 13, 2013, the 13 week IUR in Alaska fell below the 6.0% trigger threshold necessary to remain “on” EB. The payable period in EB for Alaska ended May 4, 2013.

• Alaska's IUR has fallen below the 6.0% trigger threshold and has triggered “off” Tier 4 of EUC08.

Based on data from Alaska for the week ending April 13, 2013, the 13 week IUR in Alaska fell below the 6.0% trigger rate threshold to remain “on” Tier 4 of EUC08. The week ending May 4, 2013, was the last week in which EUC08 claimants in Alaska could exhaust Tier 3, and establish Tier 4 eligibility. Under the phase-out provisions, claimants could receive any remaining entitlement they had for Tier 4 after May 4, 2013.

• Delaware's trigger value exceeds the 7.0% trigger threshold and has triggered “on” Tier 3 of EUC08.

Based on data released by the Bureau of Labor Statistics on March 18, 2013, the three month average, seasonally adjusted TUR in Delaware was 7.1%, exceeding the 7.0% threshold necessary to trigger “on” Tier 3 of EUC08. The week beginning April 7, 2013, was the first week in which EUC08 claimants in Delaware who had exhausted Tier 2, and are otherwise eligible, could establish Tier 3 eligibility.

• Illinois' trigger value met the 9.0% trigger threshold and has triggered “on” Tier 4 of EUC08.

Based on data released by the Bureau of Labor Statistics on March 29, 2013, the three month average, seasonally adjusted TUR in Illinois met the 9.0% trigger threshold to trigger “on” Tier 4 of EUC08. The week beginning April 14, 2013, was the first week in which EUC08 claimants in Illinois who had exhausted Tier 3, and were otherwise eligible, could establish Tier 4 eligibility.

• Louisiana's trigger value has fallen below the 6.0% trigger threshold and has triggered “off” Tier 2 of EUC08.

Based on data released by the Bureau of Labor Statistics on March 18, 2013, the three month average, seasonally adjusted TUR in Louisiana was 5.8%, falling below the 6.0% trigger threshold to remain “on” Tier 2 of EUC08. The week ending April 13, 2013, was the last week in which EUC08 claimants in Louisiana could exhaust Tier 1, and establish Tier 2 eligibility. Under the phase-out provisions, claimants could receive any remaining entitlement they had in Tier 2 after April 13, 2013.

• Michigan's trigger value has fallen below the 9.0% trigger threshold and has triggered “off” Tier 4 of EUC08.

Based on data released by the Bureau of Labor Statistics on March 18, 2013, the three month average, seasonally adjusted TUR for Michigan was 8.9%, falling below the 9.0% trigger threshold to remain “on” Tier 4 of EUC08. The week ending April 13, 2013, was the last week in which EUC08 claimants in Michigan could exhaust Tier 3, and establish Tier 4 eligibility. Under the phase-out provisions, claimants could receive any remaining entitlement they had in Tier 4 after April 13, 2013.

• Mississippi's trigger value exceeds the 9.0% trigger threshold and has triggered “on” Tier 4 of EUC08.

Based on data released by the Bureau of Labor Statistics on March 29, 2013, the three month average, seasonally adjusted TUR in Mississippi was 9.3%, exceeding the 9.0% trigger threshold to trigger “on” Tier 4 of EUC08. The week beginning April 14, 2013, was the first week in which EUC08 claimants in Mississippi who had exhausted Tier 3, and are otherwise eligible, could establish Tier 4 eligibility.

• Ohio's trigger value met the 7.0% trigger threshold and has triggered “on” Tier 3 of EUC08.

Based on data released by the Bureau of Labor Statistics on April 19, 2013, the three month average, seasonally adjusted total unemployment rate in Ohio had met 7.0% trigger threshold to trigger “on” in Tier 3 of EUC08. The week beginning May 5, 2013, was the first week in which EUC08 claimants in Ohio who had exhausted Tier 2, and were otherwise eligible, could establish Tier 3 eligibility.

• The Virgin Islands' estimated trigger rate fell below the 6.0% threshold and has triggered “off” both Tier 2 and Tier 3 of EUC08.

Based on data released by the Bureau of Labor Statistics on March 8, 2013, the estimated three month average, seasonally adjusted TUR in the Virgin Islands fell below the 6.0% trigger threshold rate to remain “on” both Tier 2 and Tier 3 of EUC08. That triggered the Virgin Islands off both Tier 2 and Tier 3 of EUC08. The week ending March, 30 2013, was the last week in which EUC08 claimants in the Virgin Islands could exhaust Tier 1 and establish Tier 2 eligibility, or exhaust Tier 2 and establish Tier 3 eligibility.

• Wisconsin's trigger value met the 7.0% threshold and has triggered “on” Tier 3 of EUC08, however mandatory 13 week “off” period delayed effective date.

Based on data released by the Bureau of Labor Statistics on April 19, 2013, the three month average, seasonally adjusted TUR for Wisconsin has met the 7.0% trigger rate threshold to trigger “on” Tier 3 of EUC08. However, Wisconsin was in a 13 week mandatory “off” period that started February 9, 2013, and did not conclude until May 11, 2013. As a result, Wisconsin remained in an “off” period for Tier 3 of EUC08 through May 11, 2013, and triggered “on” Tier 3 of EUC08 effective May 12, 2013. The week beginning May 12, 2013, was the first week in which EUC08 claimants in Wisconsin who have exhausted Tier 2, and are otherwise eligible, can establish Tier 3 eligibility.

Information for Claimants

The duration of benefits payable in the EUC08 program, and the terms and conditions under which they are payable, are governed by Public Laws 110-252, 110-449, 111-5, 111-92, 111-118, 111-144, 111-157, 111-205, 111-312, 112-96, and 112-240, and the operating instructions issued to the states by the Department. The duration of benefits payable in the EB program, and the terms and conditions on which they are payable, are governed by the Federal-State Extended Unemployment Compensation Act of 1970, as amended, and the operating instructions issued to the states by the Department.

In the case of a state beginning or concluding a payable period in EB or EUC08, the State Workforce Agency (SWA) will furnish a written notice of any change in potential entitlement to each individual who could establish, or had established, eligibility for benefits (20 CFR 615.13 (c)(1) and (c)(4)). Persons who believe they may be entitled to benefits in the EB or EUC08 programs, or who wish to inquire about their rights under these programs, should contact their SWA.

FOR FURTHER INFORMATION CONTACT: Tony Sznoluch, U.S. Department of Labor, Employment and Training Administration, Office of Unemployment Insurance, 200 Constitution Avenue NW., Frances Perkins Bldg. Room S-4524, Washington, DC 20210, telephone number (202) 693-3176 (this is not a toll-free number) or by email: sznoluch.anatoli@dol.gov.

Signed in Washington, DC, this 17th day of June 2013.
Gerri Fiala,
Acting Assistant Secretary for Employment and Training .

[FR Doc. 2013-15105 Filed 6-24-13; 8:45 am]

BILLING CODE 4510-FW-P